DEPARTMENT OF THE INTERIOR

Bureau of Land Management

[AZ-956-02-1420-BJ]

Arizona; Notice of Filing of Plats of Survey

July 12, 2002.

Arizona State Office, 222 North Central Avenue, Phoenix, Arizona 85004

1. The plats of survey of the following described land were officially filed in the Arizona State Office, Phoenix, Arizona, on the dates indicated:

A plat representing the dependent resurvey of a portion of the east boundary and a portion of the subdivisional lines and the subdivision of sections 13, 14, 24, 26 and 27, Township 9 North, Range 2 East of the Gila and Salt River Meridian, Arizona, accepted February 10, 2002 and officially filed February 16, 2002.

This plat was prepared at the request of the Phoenix Field Office, Bureau of Land Management.

A plat representing the dependent resurvey of the Fourth Standard Parallel North, through portions of Ranges 4 and 5 East (north boundary), a portion of the south and east boundaries, and a portion of the subdivisional lines, the subdivision of certain sections and a metes-and-bounds survey in section 22, in Township 16 North, Range 4 East of the Gila and Salt River Meridian, Arizona, accepted January 22, 2002 and officially filed January 25, 2002.

This plat was prepared at the request of the United States Forest Service.

A plat representing the dependent resurvey of a portion of the subdivisional lines, the subdivision of section 15 and metes-and-bounds surveys in section 15, in Township 18 North, Range 4 East of the Gila and Salt River Meridian, Arizona, accepted January 7, 2002 and officially filed January 16, 2002.

This plat was prepared at the request of the United States Forest Service.

A plat representing the dependent resurvey of a portion of the subdivisional lines, the survey of a portion of the subdivisional lines, the subdivision of sections 15, 16 and 21, a metes-and-bounds survey of Public Land Order 5687 in sections 8, 9, 16, 17, 21 and 28, and a traverse along the 3720 foot contour in section 15, in Township 41 North, Range 9 East of the Gila and Salt River Meridian, Arizona, accepted June 3, 2002 and officially filed June 7, 2002.

This plat was prepared at the request of the Bureau of Indian Affairs, Navajo Regional Office.

A plat representing the survey of the Fifth guide Meridian East, (east boundary), the south, west and north boundaries, and the subdivisional lines, in Township 31 North, Range 20 East of the Gila and Salt River Meridian, Arizona, accepted January 30, 2002 and officially filed February 13, 2002.

This plat was prepared at the request of the Bureau of Indian Affairs, Navajo Regional Office.

A plat representing the survey of the Eight Standard Parallel North, (south boundary), in Township 33 North, Range 27 East of the Gila and Salt River Meridian, Arizona, accepted January 30, 2002 and officially filed February 13, 2002.

This plat was prepared at the request of the Bureau of Indian Affairs, Navajo Regional Office.

A plat representing the survey of the Eighth Standard Parallel North, (south boundary), in Township 33 North, Range 28 East of the Gila and Salt River Meridian, Arizona, accepted January 30, 2002 and officially filed February 13, 2002.

This plat was prepared at the request of the Bureau of Indian Affairs, Navajo Regional Office.

A plat representing the survey of the Eighth Standard Parallel North, (south boundary), the Seventh Guide Meridian East, (west boundary), the east and north boundaries, and the subdivisional lines, in Township 33 North, Range 29 East of the Gila and Salt River Meridian, Arizona, accepted June 3, 2002 and officially filed June 7, 2002.

This plat was prepared at the result of the Bureau of Indian Affairs, Navajo Regional Office.

A plat representing the dependent resurvey of portions of the west and north boundaries, in Township 37 North, Range 30 East of the Gila and Salt River Meridian, Arizona, accepted January 30, 2002 and officially filed February 13, 2002.

This plat was prepared at the request of the Bureau of Indian Affairs, Navajo Regional Office.

A plat representing the dependent resurvey of a portion of the north boundary and a portion of the subdivisional lines, the subdivision of sections 3 and 4, the metes-and-bounds survey of the Beaver Dam Wilderness Area boundaries through sections 3, 4, 10 and 15 and an informative traverse in section 3, in Township 41 North, Range 14 West of the Gila and Salt River Meridian, Arizona, accepted June 13, 2002 and officially filed June 19, 2002.

This plat was prepared at the request of the Arizona Strip Field Office, Bureau of Land Management.

A plat representing the dependent resurvey of a portion of the subdivisional lines and the subdivision of section 21, in Township 6 South, Range 19 East of the Gila and Salt River Meridian, Arizona, accepted May 20, 2002 and officially filed May 22, 2002.

This plat was prepared at the request of the Safford Field Office, Bureau of Land Management.

2. All inquiries in relation to these lands should be sent to the Arizona State Office, Bureau of Land Management, 222 N. Central Avenue, P.O. Box 1552, Phoenix, Arizona 85001-1552.

Kenny D. Ravnikar,
Chief Cadastral Surveyor of Arizona.

[FR Doc. 02-19184 Filed 7-29-02; 8:45 am]

BILLING CODE 4310-32-M